DEPARTMENT OF AGRICULTURE

Forest Service

McCache Vegetation Management Environmental Assessment, Deschutes National Forest, Deschutes County, Oregon

AGENCY: Forest Service, USDA.

ACTION: Notice of Availability.

SUMMARY: The Environmental Assessment for the McCache Vegetation Management project is available for review and comment. This project analyzes 15,000 acres of National Forest lands within a Late-Successional Reserve that have been heavily impacted by drought and insects. The objective of the project is to determine future options for reducing the high risk of severe wildfire, and how best to restore habitat. The project would also amend visual quality standards in the Deschutes National Forest Land and Resource Management Plan. The McCache Vegetation Management project area is located about 5 miles west of Sisters, Oregon.

The Environmental Assessment is available upon request for the Sisters Ranger District, P.O. Box 249, Sisters, Oregon, 97759; at the Deschutes National Forest Supervisor's Office, 1645 Highway 20 East, Bend, Oregon; and at the Deschutes National Forest website at www.fs.fed.us/r6/deschutes.

Written comments should be addressed to William Anthony, District Ranger, P.O. Box 249, Sisters, OR 97759. Comments can also be sent by email to kmartinson@fs.fed.us. Written or oral comments should include your name, address, and telephone number. Please include the title of the document; specific facts or comments, and supporting reasons for your comments.

EFFECTIVE DATE: Please submit comments within 30 days following publication of the legal notice of availability in the Nugget newspaper, Sisters, Oregon.

FOR FURTHER INFORMATION CONTACT: For further information, contact Kris Martinson, Sisters Ranger District, P.O. Box 249, Sisters, Oregon, 97759, or phone (541) 549-7730.

Dated: March 2, 2001.
Leslie A.C. Weldon,
Forest Supervisor.

[FR Doc. 01-6297 Filed 3-13-01; 8:45 am]

BILLING CODE 3410-11-M